DEPARTMENT OF TRANSPORTATION

Federal Railroad Administration

[Docket Number FRA-2012-0020]

Notification of Petition for Approval; Informational Filing and Request for Waiver

In accordance with Part 211 of Title 49 Code of Federal Regulations (CFR), this document provides the public notice that by a document dated June 20, 2012, the Union Pacific Railroad (UP) and the National Railroad Passenger Corporation (Amtrak) have provided the Federal Railroad Administration (FRA) a petition for approval of an Informational Filing and Request for Waiver pursuant to 49 CFR 236.913(j) to conduct a high-speed rail (HSR) demonstration project. FRA has assigned the petition Docket Number FRA-2012-0020.

UP, Amtrak, and the Illinois Department of Transportation (IDOT) plan to conduct demonstration high-speed passenger train operations over a portion of the corridor between Chicago, IL, and St. Louis, MO, as part of the high-speed rail program. The demonstration segments are on UP's Joliet Subdivision, between Control Point (CP) X073 South Dwight, Milepost (MP) 72.81; and CP X093 Pontiac, MP 92.48.

High-speed passenger trains will operate up to 110 mph, and UP freight trains will continue to operate at speeds not to exceed 60 mph.

The scope of the work requires UP to design procure and install:

1. Cab signal fixed equipment in an initial segment between Dwight and Pontiac.

2. A train control system meeting Positive Train Control (PTC) requirements on the entire UP portion of the route, in accordance with Federal regulations.

The operations described and proposed in the filing are in furtherance of the High Speed Rail 2A Route Construction Contract (the “2A Agreement”) dated March 4, 2011, as amended on December 18, 2011. This agreement is funded under FRA Grant/Cooperative Agreement FR-HSR-0015-11-01-00.

Operation on the demonstration segment will be under the centralized traffic control rules of the General Code of Operating Rules. UP freight trains will use automatic cab signals (ACS), consistent with the operation on its other ACS territories that do not provide speed control. Amtrak passenger trains will use the speed control function of the automatic train control on board their locomotives, which provides enforcement of speed limits associated with signal indications. UP and Amtrak are the only operators on the demonstration segment.

A modification of Incremental Train Control System (ITCS) in furtherance of the High-Speed Rail 2A Route Construction Agreement (2A Agreement) will provide a mechanism for safe activation of highway-grade crossing warning devices by passenger trains operating in excess of 79 mph. In addition, the two-way communications feature of ITCS allows crossing health and status information to be provided to approaching ITCS-equipped trains.

In support of the proposed test program, the railroads are seeking temporary relief from compliance with the following 49 CFR parts and sections:

Section 216.13, Special notice for repairs—locomotive; Section 217.9, Program of operational tests and inspections; recordkeeping; Section 217.11, Program of instruction on operating rules; recordkeeping; electronic recordkeeping; Part 218 [Subpart D]—Prohibition Against Tampering With Safety Devices; Section 229.7, Prohibited Acts; Section 229.135, Event recorders; Section 233.9, Annual reports; Section 234.9, Grade crossing signal system failure reports; Section 235.5, Changes requiring filing of application; Section 240.127, Criteria for examining skill performance; and Section 240.129, Criteria for monitoring operational performance of certified engineers. Relief from these regulations is sought only for the duration of the testing program, and only as the relief relates to ITCS-specific component elements.

A copy of the petition, the Informational Filing, the Request for Waiver, and any related documents are available for review online at www.regulations.gov and in person at the U.S. Department of Transportation's (DOT's) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the 30-day comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

A comment period of 30 days after the date of this notice is established. Communications received before the end of the comment period will be considered by FRA before final action is taken. Comments received after that date will be considered as far as practicable.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78).

Issued in Washington, DC, on July 3, 2012.
Ron Hynes,
Acting Deputy Associate Administrator for Regulatory and Legislative Operations.

[FR Doc. 2012-16803 Filed 7-9-12; 8:45 am]

BILLING CODE 4910-06-P